DEPARTMENT OF STATE

[Public Notice 7753]

30-Day Notice of Proposed Information Collection: DS-4164 OMB Control #1405-XXXX

ACTION: Notice of request for public comment and submission to OMB of proposed collection of information.

SUMMARY: The Department of State has submitted the following information collection request to the Office of Management and Budget (OMB) for approval in accordance with the Paperwork Reduction Act of 1995.

• Title of Information Collection: Risk Analysis and Management.

• OMB Control Number: None.

• Type of Request: New Collection.

• Originating Office: Bureau of Administration—A/LM/RAM.

• Form Number: DS-4184.

• Respondents: Potential Contractors and Grantees.

• Estimated Number of Respondents: 1250.

• Estimated Number of Responses: 6250.

• Average Hours per Response: 75 minutes.

• Total Estimated Burden: 7,813 hours.

• Frequency: On occasion.

• Obligation To Respond: Voluntary.

DATES: Submit comments to the Office of Management and Budget (OMB) for up to February 17, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: (202) 395-5806. Attention: Desk Officer for Department of State.

FOR FURTHER INFORMATION CONTACT: You may obtain copies of the proposed information collection and supporting documents from Edward H. Vazquez, U.S. Department of State, who may be reached on (703) 812-02308 or at Vazquezeh@State.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The information collected from the individuals is specifically used to conduct screening to ensure that State funded activities are not purposefully or inadvertently uses to provide support to entities or individuals deemed to be a risk to national security.

Methodology

The State Department, at the direction of the Congress in the FY 2010 Department of State, Foreign Operations, and Related Programs Appropriations Act, carried forward in the FY 2011 Continuing Resolution, is implementing a Risk Analysis and Management Program to vet potential contractors and grantees to mitigate the risk that foreign assistance funds might benefit terrorists or their supporters. To conduct this vetting program the Department envisions collecting information from contractors, sub-contractors, grantees and sub-grantees regarding their directors, officers or key employees. The information collected will be compared to information gathered from commercial, public, and U.S. government databases to determine the risk that the applying organization, entity or individual might divert Department funds to terrorist entities.

Dated: January 6, 2012.
Catherine I. Ebert-Gray,
Deputy Assistant Secretary, Bureau of Administration, Office of Logistics Management, Department of State.

[FR Doc. 2012-575 Filed 1-17-12; 8:45 am]

BILLING CODE 4710-24-P